DEPARTMENT OF TRANSPORTATION

Pipeline and Hazardous Materials Safety Administration

Office of Hazardous Materials Safety; Notice of Applications for Modification of Special Permit

AGENCY: Pipeline and Hazardous Materials Safety Administration (PHMSA), DOT.

ACTION: List of applications for modification of special permit.

SUMMARY: In accordance with the procedures governing the application for, and the processing of, special permits from the Department of Transportation's Hazardous Material Regulations (49 CFR part 107, subpart B), notice is hereby given that the Office of Hazardous Materials Safety has received the application described herein. This notice is is abbreviated to expedite docketing and public notice. Because the sections affected, modes of transportation, and the nature of application have been shown in earlier Federal Register publications, they are not repeated here. Request of modifications of special permits (e.g., to provide for additional hazardous materials, packaging design changes, additional mode of transportation, etc.) are described in footnotes to the application number. Application numbers with the suffix “M” denote a modification request. These applications have been separated from the new application for special permits to facilitate processing.

DATES: Comments must be received on or before June 6, 2007.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street SW., Washington, DC or at http://dms.dot.gov.

This notice of receipt of applications for modification of special permit is published in accordance with part 107 of the Federal hazardous materials transportation law (49 U.S.C. 5117(b); 49 CFR 1.53(b)).

Issued in Washington, DC, on May 15, 2007.
Delmer Billings,
Director, Special Permits & Approvals Programs, Office of Hazardous Materials, Special Permits & Approvals.

Modification Special Permits
Application No. | Docket No. | Applicant | Regulation(s) Affected | Nature of special permit thereof
5022-M |  | Alliant TechSystems Inc., Plymouth, MN | 49 CFR 174.101(L); 174.104(d); 174.112(a); 177.834(l)(l) | To modify the special permit to authorize the transportation in commerce of an additional Division 1.2 explosive.
10043-M |  | Texas Instruments, Inc., Dallas, TX | 49 CFR 173.12 | To modify the special permit to authorize residual amounts of various hazardous materials, Class 3 liquids, Class 8 materials, Division 6.1 materials, Division 5.1 materials, and ORM-A or ORM-B, in inside packaging having a maximum capacity of five gallons overpacked in outside non-DOT polyethylene bins of 30 cubic-foot capacity.
11579-M |  | Austin Powder Company, Cleveland, OH | 49 CFR 177.848(e)(2); 177.848(g)(3); 177.835(c)(3) | To modify the special permit to authorize an increase in weight of bulk Division 1.5D and 5.1 hazardous materials allowed to be carried in combination with certain Division 6.1 and Class 8 hazardous materials.
11924-M | 2744 | Wrangler Corporation, Auburn, ME | 49 CFR 173.12(b)(2)(i) | To modify the special permit to authorize an additional design type for composite intermediate bulk containers (IBCs) and a change to the additional IBC drop test requirements.
13199-M | 14558 | Carrier Corporation, Houston, TX | 49 CFR 173.302(c); 173.306(e)(l) | To modify the special permit to authorize a manufactured rigid internal structure in place of permanently affixing to a trailer.
13280-M | 16152 | Ovonic Hydrogen Systems, L.L.C., Rochester Hills, MI | 49 CFR 173.301(a)(l) (d) and (f) | To modify the special permit to authorize different pressure relief devices per CGA standards.
14313-M | 23868 | Airgas, Inc., Radnor, PA | 49 CFR 173.302a(b) (2), (3), (4) and (5), 180.205, 180.209, 172, 203(a), 172.301(c) | To authorize the use of ultrasonic inspection as an alternative retest method for certain DOT specification cylinders and certain cylinders manufactured under a DOT special permit.
14478-M |  | Pilkington North America, Inc., Northwood, OH | 49 CFR 178.603 | To reissue the special permit originally issued on an emergency basis to authorize the alternative testing of custom manufactured containers that will be used to transport flammable solids, organic, n.o.s., (ferrocene).

[FR Doc. 07-2512 Filed 5-21-07; 8:45 am]

BILLING CODE 4909-60-M